DEPARTMENT OF TRANSPORTATION

Federal Highway Administration

Environmental Impact Statement: St. Clair County, MI

AGENCY: Federal Highway Administration (FHWA), DOT.

ACTION: Notice of intent.

SUMMARY: The FHWA is issuing this notice to advise the public that an Environmental Impact Statement (EIS) will be prepared for proposed improvements to the United States Port of Entry plaza for the Blue Water Bridge in St. Clair County, Michigan.

FOR FURTHER INFORMATION CONTACT: Mr. James Kirschensteiner, Assistant Division Administrator, Federal Highway Administration, 315 W. Allegan Street, Room 201, Lansing, Michigan 48933, telephone: (517) 702-1835.

SUPPLEMENTARY INFORMATION: The FHWA in cooperation with the Michigan Department of Transportation (MDOT) is preparing an Environmental Impact Statement (EIS) to evaluate alternatives for potential improvements to the United States Border Plaza at the Blue Water Bridge. Invitations are being sent to other Federal agencies to become cooperating agencies in the development of the environmental impact statement for he subject project.

The Blue Water Bridge is a major passenger and commercial border crossing between the United States and Canada and is the termination point for I-94/I-69 in the United States and for Highway 402 in Canada. MDOT owns and operates the Blue Water Bridge in conjunction with the Canadian Blue Water Bridge Authority (BWBA). MDOT also owns and operates the Blue Water Bridge Border Plaza. Several agencies of the Department of Homeland Security (DHS) operate on the United States Plaza. These agencies are responsible for inspecting vehicles, goods, and people entering the United States and include: the Bureau of Customs and Border Protection (CBP), the United States Department of Agriculture (USDA), and the Food and Drug Administration (FDA). The inspection agencies lease facilities on the United States Plaza from MDOT through the General Services Administration (GSA), which serves as the Federal-leasing agent. MDOT collects tolls from vehicles departing the United States for Canada on the plaza.

The study area is located within the City of Port Huron and Port Huron Township. The study area consists of approximately 30 blocks (195 acres) of urban land use surrounding the existing plaza and ramps, and its extends to the west along I-94/I-69 for approximately 2.2 miles. The study areas includes the existing plaza, the Black River Bridge, the Water Street interchange, and locations for off-site inspection facilities, located north of I-94/I-69 and west of the Water Street interchange.

In September 2002, this project started as an Environmental Assessment (EA) and has proceeded through the scoping phase, Purpose and Need documentation, and alternatives development. Two resource agency meetings and three public information meetings were held during this time. As a result of identified potentially significant impacts, FHWA and MDOT have concluded that an Environmental Impact Statement should be completed.

A range of plaza and transportation improvement alternatives will be analyzed within the recommended study area. Reasonable alternatives under consideration include: (1) Taking no-action, (2) expanding the existing plaza location in the City of Port Huron, and (3) Relocating the major plaza functions to off-site plaza location in Port Huron township.

Agencies and citizen involvement will continue to be solicited throughout this process. A public meeting and a public hearing will be held on the Draft Environmental Impact Statement (DEIS). Public notice will be given of the time and place of the hearing. The DEIS will be available for public and agency review and comment prior to the public hearing.

To ensure that the full range of issues related to this proposed action are addressed and all significant issues identified, comments and suggestions are invited from all interested parties. Comments of questions concerning this proposed action and the EIS should be directed to the FHWA at the address provided above.

(Catalog of Federal Domestic Assistance Program Number 20.205, Highway Research, Planning and Construction. The regulations implementing Executive Order 12372 regarding intergovernmental consultation on Federal programs and activities apply to this program.)
Issued on: January 12, 2005.
James J. Steele,
Division Administrator, Lansing, Michigan.

[FR Doc. 05-1556 Filed 1-26-05; 8:45 am]

BILLING CODE 4910-22-M